COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products and services from the Procurement List that was furnished by nonprofit agencies employing persons who are blind or have other severe disabilities.

DATES: Comments must be received on or before: 8/21/2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s):

8415-00-NIB-1053—Jacket, Tanker, USMC, Pewter Gray, Size 38R

8415-00-NIB-1054—Jacket, Tanker, USMC, Pewter Gray, Size 38L

8415-00-NIB-1055—Jacket, Tanker, USMC, Pewter Gray, Size 38XL

8415-00-NIB-1056—Jacket, Tanker, USMC, Pewter Gray, Size 40S

8415-00-NIB-1057—Jacket, Tanker, USMC, Pewter Gray, Size 40R

8415-00-NIB-1058—Jacket, Tanker, USMC, Pewter Gray, Size 40L

8415-00-NIB-1059—Jacket, Tanker, USMC, Pewter Gray, Size 40XL

8415-00-NIB-1092—Jacket, Tanker, USMC, Pewter Gray, Size 42S

8415-00-NIB-1093—Jacket, Tanker, USMC, Pewter Gray, Size 42R

8415-00-NIB-1094—Jacket, Tanker, USMC, Pewter Gray, Size 42L

8415-00-NIB-1095—Jacket, Tanker, USMC, Pewter Gray, Size 42XL

8415-00-NIB-1096—Jacket, Tanker, USMC, Pewter Gray, Size 44S

8415-00-NIB-1097—Jacket, Tanker, USMC, Pewter Gray, Size 44R

8415-00-NIB-1098—Jacket, Tanker, USMC, Pewter Gray, Size 44L

8415-00-NIB-1099—Jacket, Tanker, USMC, Pewter Gray, Size 44XL

8415-00-NIB-1100—Jacket, Tanker, USMC, Pewter Gray, Size 46S

8415-00-NIB-1101—Jacket, Tanker, USMC, Pewter Gray, Size 46R

8415-00-NIB-1102—Jacket, Tanker, USMC, Pewter Gray, Size 46L

8415-00-NIB-1103—Jacket, Tanker, USMC, Pewter Gray, Size 46XL

8415-00-NIB-1104—Jacket, Tanker, USMC, Pewter Gray, Size 48R

8415-00-NIB-1105—Jacket, Tanker, USMC, Pewter Gray, Size 48L

8415-00-NIB-1106—Jacket, Tanker, USMC, Pewter Gray, Size 48XL

8415-00-NIB-1107—Jacket, Tanker, USMC, Pewter Gray, Size 50R

8415-00-NIB-1108—Jacket, Tanker, USMC, Pewter Gray, Size 50L

8415-00-NIB-1109—Jacket, Tanker, USMC, Pewter Gray, Size 50XL

8415-00-NIB-1110—Jacket, Tanker, USMC, Pewter Gray, Size 52R

8415-00-NIB-1111—Jacket, Tanker, USMC, Pewter Gray, Size 52L

8415-00-NIB-1112—Jacket, Tanker, USMC, Pewter Gray, Size 54R

8415-00-NIB-1113—Jacket, Tanker, USMC, Pewter Gray, Size 54L

Mandatory Source(s) of Supply: Lions Services, Inc., Charlotte, NC

Contracting Activity: Marine Corps Systems Command, Quantico, VA

NSN(s)—Product Name(s): 1005-01-511-2152—Sling, M-249 Small Arms

Contracting Activity: Defense Logistics Agency Land and Maritime

NSN(s)—Product Name(s): 1005-01-478-0848—Sling, Combat, Close Quarters

Mandatory Source(s) of Supply: Best Industries for the Blind Inc., Runnemede NJ

Contracting Activity: W40M NORTHEREGION CONTRACT OFC

NSN(s)—Product Name(s): 1095-00-223-7164—Scabbard, Bayonet-Knife

Contracting Activity: W40M NORTHEREGION CONTRACT OFC

NSN(s)—Product Name(s):

7930-01-494-2985—Ecolab Omni-Pak, Floor Cleaner/ Stripper, Heavy-Duty, Water Soluble, .5 oz.

7930-01-380-8404—EcoLab Water Soluble Cleaners/Detergents

Mandatory Source(s) of Supply: Association for the Blind and Visually Impaired—Goodwill Industries of Greater Rochester, Rochester, NY

Contracting Activity: General Services Administration, Fort Worth, TX

NSN(s)—Product Name(s):

7930-01-600-5752—Starter Kit, Disinfectant Cleaner-Degreaser Cartridge Concentrate

7930-01-600-5749—Refills, Disinfectant Cleaner-Degreaser Cartridge Concentrate

Mandatory Source(s) of Supply: Association for Vision Rehabilitation and Employment, Inc., Binghamton, NY

Contracting Activities:

Department of Veterans Affairs

General Services Administration, Fort Worth, TX

NSN(s)—Product Name(s):

7930-01-380-8350—Finish, Floor, Sealer, Non-buffing, High Gloss, Ready-to-Use, 1 gal

930-01-380-8475—Finish, Floor, Sealer, Non-buffing, High Gloss, Ready-to-Use, 55 gal

7930-01-380-8500—Finish, Floor, Sealer, Non-buffing, High Gloss, Ready-to-Use, 5 gal

Mandatory Source(s) of Supply: Lighthouse for the Blind of Houston, Houston, TX

Contracting Activity: General Services Administration, Fort Worth, TX

NSN(s)—Product Name(s): 7045-01-392-6514—Greendisk

Mandatory Source(s) of Supply: North Central Sight Services, Inc., Williamsport, PA

Contracting Activity: Defense Logistics Agency Troop Support

Services

Service Type: Janitorial/Custodial Service

Mandatory for: VA Primary Care Clinic, 3715 Municipal Drive, McHenry, IL

Mandatory Source(s) of Supply: The Chicago Lighthouse for People Who Are Blind or Visually Impaired, Chicago, IL

Contracting Activity: Department of Veterans Affairs

Service Type: Employment Placement Service

Mandatory for: Defense Logistics Agency: National Human Resource Offices, Fort Belvoir, VA

Mandatory Source(s) of Supply: The Chicago Lighthouse for People Who Are Blind or Visually Impaired, Chicago, IL

Contracting Activity: General Services Administration, New York, NY

Service Type: Administrative Service

Mandatory for: General Services Administration: Public Building Service Property Development, 230 S. Dearborn Street, Chicago, IL

Mandatory Source(s) of Supply: The Chicago Lighthouse for People Who Are Blind or Visually Impaired, Chicago, IL

Contracting Activity: General Services Administration, FPDS Agency Coordinator

Service Type: Administrative/General Support Service

Mandatory for: GSA, Central Field Office, 536 S. Clark Street, Chicago, IL

Mandatory Source(s) of Supply: The Chicago Lighthouse for People Who Are Blind or Visually Impaired, Chicago, IL

Contracting Activity: General Services Administration, FPDS Agency Coordinator

Service Type: Administrative/General Support Service, Chaplain's Office, Great Lakes Naval Training Center, Great Lakes, IL

Mandatory Source(s) of Supply: The Chicago Lighthouse for People Who Are Blind or Visually Impaired, Chicago, IL

Contracting Activity: DOD/Department of the Navy

Service Type: Administrative Support Service

Mandatory for: GSA, Tampa Property Management Office, 501 E Polk Street, Tampa, FL

Mandatory Source(s) of Supply: Tampa Lighthouse for the Blind, Tampa, FL

Contracting Activity: General Services Administration, FPDS Agency Coordinator

Service Type: Assembly, Kit Camouflage Supp. Service

Mandatory for: Department of the Army: Red River Army Depot, 469 Avenue L, Texarkana, TX

Mandatory Source(s) of Supply: Louisiana Association for the Blind, Shreveport, LA

Contracting Activity: Dept of the Army, W40M Northern Region Contract Ofc

Service Type: Switchboard Operation Service

Mandatory for: Cannon Air Force Base, Cannon AFB, NM

Mandatory Source(s) of Supply: ENMRSH, Inc., Clovis, NM

Contracting Activity: Dept of the Air Force, FA4855 27 SOCONS LGC

Service Type: Transportation/Vehicle Operation Service

Mandatory for: Brooks Air Force Base, Brooks AFB, TX

Mandatory Source(s) of Supply: Training, Rehabilitation, & Development Institute, Inc., San Antonio, TX

Contracting Activity: Dept of the Air Force, FA8901 311 ABG PKB

Service Type: Storage & Distribution of Tape, Webbing Service

Mandatory for: Defense Supply Center Philadelphia, 2800 S 20th Street, Philadelphia, PA

Mandatory Source(s) of Supply: Arizona Industries for the Blind, Phoenix, AZ

Contracting Activity: Defense Logistics Agency Troop Support

Service Type: Fabrication of Tool Box Liners Service

Mandatory for: Fleet and Industrial Supply Center, P.O. Box 97, Naval Air Station, Jacksonville, FL

Mandatory Source(s) of Supply: Arizona Industries for the Blind, Phoenix, AZ

Contracting Activity: DOD/Department of the Navy

Service Type: Repair of Small Hand Tools Service

Mandatory for: Fleet and Industrial Supply Center, P.O. Box 97, Naval Air Station, Jacksonville, FL

Mandatory Source(s) of Supply: Tampa Lighthouse for the Blind, Tampa, FL

Contracting Activity: DOD/Department of the Navy

Service Type: Parts Machining Service

Mandatory for: Fleet and Industrial Supply Center, P.O. Box 97, Naval Air Station, Jacksonville, FL

Mandatory Source(s) of Supply: Arizona Industries for the Blind, Phoenix, AZ

Contracting Activity: DOD/Department of the Navy

Service Type: Parts Machining Service

Mandatory for: Naval Supply Center (Bldg 467): Puget Sound, 467 W Street, Bremerton, WA

Mandatory Source(s) of Supply: The Lighthouse for the Blind, Inc. (Seattle Lighthouse), Seattle, WA

Contracting Activity: DOD/Department of the Navy

Barry S. Lineback,
Director, Business Operations.

[FR Doc. 2016-17388 Filed 7-21-16; 8:45 am]

BILLING CODE 6353-01-P